DEPARTMENT OF ENERGY

Office of Science; DOE/Advanced Scientific Computing Advisory Committee

AGENCY: Department of Energy.

ACTION: Notice of open meeting.

SUMMARY: This notice announces a meeting of the Advanced Scientific Computing Advisory Committee (ASCAC). Federal Advisory Committee Act (Public Law 92-463, 86 Stat. 770) requires that public notice of these meetings be announced in the Federal Register.

DATES: Tuesday, February 27, 2007, 9 a.m. to 4:45 p.m.; Wednesday, February 28, 2007, 9 a.m. to 11:45 a.m.

ADDRESSES: American Geophysical Union, (AGU), 2000 Florida Avenue, NW., Washington, DC 20009-1277.

FOR FURTHER INFORMATION CONTACT: Melea Baker, Office of Advanced Scientific Computing Research; SC-21/Germantown Building; U.S. Department of Energy, 1000 Independence Avenue, SW., Washington, DC 20585-1290; Telephone (301) 903-7486, (E-mail: Melea.Baker@science.doe.gov).

SUPPLEMENTARY INFORMATION: Purpose of the Meeting: The purpose of this meeting is to provide advice and guidance with respect to the advanced scientific computing research program.

Tentative Agenda: Agenda will include discussions of the following:

Tuesday, February 27, 2007

View from Washington on the Office of Advanced Scientific Computing

Presentation from the Under Secretary for Science

Report Discussion on Charge 1—Performance Metrics for Computational Facilities

Management Principles for HPC & Leadership Computer Acquisitions

Report Discussion on Charge 2—Examine the Role and Efficiency of Networking and Networking Research Within SC

Sub-Surface Modeling

Update on SciDAC

Strategy for Applied Math Program

Public Comment

Wednesday, February 28, 2007

New Charges—COV Review of Computational Partnerships

Joint Panel with BERAC on Progression Toward GTL (Genomics) Models

Overview of Cyber Security Workshop

Outreach and Communications Project for ASCR

Mathematical Research Challenges in Optimization of Complex Systems

Public Comment

Public Participation: The meeting is open to the public. If you would like to file a written statement with the Committee, you may do so either before or after the meeting.

If you would like to make oral statements regarding any of the items on the agenda, you should contact Melea Baker via FAX at 301-903-4846 or via e-mail (Melea.Baker@science.doe.gov). You must make your request for an oral statement at least 5 business days prior to the meeting. Reasonable provision will be made to include the scheduled oral statements on the agenda. The Chairperson of the Committee will conduct the meeting to facilitate the orderly conduct of business. Public comment will follow the 10-minute rule.

Minutes: The minutes of this meeting will be available for public review and copying within 30 days at the Freedom of Information Public Reading Room; 1E-190, Forrestal Building, 1000 Independence Avenue, SW., Washington, DC 20585; between 9 a.m. and 4 p.m., Monday through Friday, except holidays.

Issued in Washington, DC, on February 7, 2007.
Rachel M. Samuel,
Deputy Advisory Committee Management Officer.

[FR Doc. E7-2306 Filed 2-9-07; 8:45 am]

BILLING CODE 6450-01-P